DEPARTMENT OF DEFENSE

Department of the Army; Corps of Engineers

Notice of Availability of a Draft Environmental Impact Statement in Cooperation With the North Carolina Department of Transportation for Improvements to the US 17 and Market Street (US 17 Business) Corridor in Northern New Hanover and Southern Pender Counties, NC

AGENCY: Department of the Army, U.S. Army Corps of Engineers, DoD.

ACTION: Notice of availability.

SUMMARY: The U.S. Army Corps of Engineers (COE), Wilmington District, Wilmington Regulatory Division is issuing this notice to advise the public that a State of North Carolina funded Draft Environmental Impact Statement (DEIS) has been prepared describing proposed improvements to the transportation system starting at Military Cutoff Road in New Hanover County to north of Hampstead along US 17, Pender County, NC (TIP Projects U-4751 and R-3300).

DATES: Written comments on the Draft EIS will be received until November 1, 2011.

ADDRESSES: Mr. Brad Shaver, Regulatory Project Manager, Wilmington Regulatory Field Office, 69 Darlington Ave., Wilmington, NC 28403 or Ms. Olivia Farr, Project Development Engineer, North Carolina Department of Transportation (NCDOT), 1548 Mail Service Center, Raleigh, NC 27699-1548.

FOR FURTHER INFORMATION CONTACT: Questions about the proposed action and DEIS can be directed to Mr. Brad Shaver, COE—Regulatory Project Manager, telephone: (910) 251-4611 or Ms. Olivia Farr, NCDOT—Project Development Engineer, telephone: (919) 733-7844, ext. 253.

SUPPLEMENTARY INFORMATION: The COE in cooperation with the North Carolina Department of Transportation has prepared a DEIS on a proposal to make transportation improvements to the US 17 and Market Street (US 17 Business) corridor in northern New Hanover and southern Pender Counties. Two North Carolina Department of Transportation Improvement Program (TIPs U-4751 and R-3300) projects are being evaluated as part of the US 17 Corridor Study.

The purpose of the US 17 Corridor Study project is to improve the traffic carrying capacity and safety of the US 17 and Market Street corridor in the project area. The project study area is roughly bounded on the west by I-40, on the north by the Northeast Cape Fear River, Holly Shelter Game Lands to the east, and Market Street and US 17 to the south.

This project is being reviewed through the Merger 01 process designed to streamline the project development and permitting processes, agreed to by the COE, North Carolina Department of Environment and Natural Resources (Division of Water Quality, Division of Coastal Management), Federal Highway Administration (for this project not applicable), and the North Carolina Department of Transportation and supported by other stakeholder agencies and local units of government. The other partnering agencies include: U.S. Environmental Protection Agency; U.S. Fish and Wildlife Service; N.C. Wildlife Resources Commission; N.C. Department of Cultural Resources; and the Wilmington Metropolitan Planning Organization. The Merger process provides a forum for appropriate agency representatives to discuss and reach consensus on ways to facilitate meeting the regulatory requirements of Section 404 of the Clean Water Act during the NEPA/SEPA decision-making phase of transportation projects.

In 2006 the project was presented to Federal and State Resource and Regulatory Agencies to gain concurrence on the purpose and need for the project. The aforementioned purpose and need of the project was agreed upon by participating agencies in September of 2006. In January 2007, the project was again presented to participating agencies regarding the preliminary corridor screening process in an attempt to decide which alternatives would be carried forward for detailed analysis. In August of 2007, the alternatives to carry forward were identified. The COE has worked closely with NCDOT and its representatives to identify jurisdictional resources within the alternatives carried forward. Upon completion of the DEIS, NCDOT submitted a request to the COE to solicit comment from the public in order to identify the Least Environmentally Damaging Practicable Alternative (LEDPA) for the project. This determination is expected in late 2011.

Citizen public hearings are being scheduled by NCDOT for the Fall of 2011 at which time citizens will be able to voice their opinions on the LEDPA decision.

The DEIS is available on the COE Web site at: http://www.saw.usace.army.mil/Wetlands/Projects/HampsteadBypass and also available on the NCDOT Web site at: http://www.ncdot.org/projects/US17HampsteadBypass/. Any person having difficulty in viewing the document online can contact the COE project manager or the NCDOT project manager for a CD copy of the document.

After distribution and review of the Draft EIS and Final EIS, the Applicant understands that the U.S. Army Corps of Engineers in coordination with the North Carolina Department of Transportation will issue a Record of Decision (ROD) for the project. The ROD will document the completion of the EIS process and will serve as a basis for permitting decisions by Federal and State agencies.

To ensure that the full range of issues related to this proposed action are addressed and all significant issues identified, comments and suggestions are invited from all interested parties. Comments or questions concerning this proposed action and the EIS should be directed to the U.S. Army Corps of Engineers at the address provided. The Wilmington District will periodically issue Public Notices soliciting public and agency comment on the proposed action and alternatives to the proposed action as they are developed.

Dated: September 15, 2011.
S. Kenneth Jolly,
Chief, Wilmington Regulatory District.

[FR Doc. 2011-24485 Filed 9-22-11; 8:45 am]

BILLING CODE 3720-58-P